DEPARTMENT OF DEFENSE

Department of the Army

Availability for Non-Exclusive, Exclusive, or Partially Exclusive Licensing of U.S. Patents and Provisional Patent Concerning Apparatus and Method for Automated Biomonitoring of Water Quality

AGENCY: Department of the Army, DoD.

ACTION: Notice.

SUMMARY: In accordance with CFR 404.6 and 404.7, announcement is made of the availability for licensing of the U.S. Patents concerning “Apparatus and Method for Automated Biomonitoring of Water Quality” listed under SUPPLEMENTARY INFORMATION. Foreign rights are also available. The inventions listed have been assigned to the United States Government as represented by the Secretary of the Army, Washington, DC.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: 1. U.S. Patent No.: 6,058,763. Foreign rights are also available (PCT/US98/04870).

Title: Apparatus and Method for Automated Biomonitoring of Water Quality.

Issue Date: May 9, 2000.

Description: The present invention relates generally to an apparatus and method for monitoring water quality. More particularly, the present invention relates to an apparatus and method for monitoring water quality using the ventilatory behavior and body movement of aquatic organisms.

2. U.S. Patent No.: 6,393,899, which is a continuation-in-part of U.S. Patent 6,058,763, above.

Title: An Apparatus and Method for Automated Biomonitoring of Water Quality.

Issue Date: May 28, 2002.

Description: See above.

3. U.S. Provisional Patent No.: 60/444,202. Foreign rights are also available.

Filing Date: February 3, 2003.

Description: This invention provides a portable means to monitor for developing toxic conditions in water. This device reduces to practice the miniaturization of the current patents 6,058,763 and 6,393,899.

Luz D. Ortiz,
Army Federal Register Liaison Officer.

[FR Doc. 04-4878 Filed 3-3-04; 8:45 am]

BILLING CODE 3710-08-M